OFFICE OF PERSONNEL MANAGEMENT

5 CFR Part 532

RIN 3206-AM33

Prevailing Rate Systems; Redefinition of the Northeastern Arizona and Colorado Appropriated Fund Federal Wage System Wage Areas

AGENCY: U.S. Office of Personnel Management.

ACTION: Proposed rule with request for comments.

SUMMARY: The U.S. Office of Personnel Management is issuing a proposed rule that would redefine the geographic boundaries of the Northeastern Arizona and Southern Colorado appropriated fund Federal Wage System (FWS) wage areas. The proposed rule would redefine Dolores, Montrose, Ouray, San Juan, and San Miguel Counties, CO, and the Curecanti National Recreation Area portion of Gunnison County, CO, from the Southern Colorado wage area to the Northeastern Arizona wage area. These changes are based on recent consensus recommendations of the Federal Prevailing Rate Advisory Committee to best match the counties proposed for redefinition to a nearby FWS survey area. No other changes are proposed for the Northeastern Arizona and Southern Colorado FWS wage areas.

DATES: We must receive comments on or before March 24, 2011.

ADDRESSES: Send or deliver comments to Jerome D. Mikowicz, Deputy Associate Director for Pay and Leave, Employee Services, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Northeastern Arizona and Southern Colorado appropriated fund Federal Wage System (FWS) wage areas. This proposed rule would redefine Dolores, Montrose, Ouray, San Juan, and San Miguel Counties, CO, and the Curecanti National Recreation Area portion of Gunnison County, CO, from the Southern Colorado wage area to the Northeastern Arizona wage area.

OPM considers the following regulatory criteria under 5 CFR 532.211 when defining FWS wage area boundaries:

(i) Distance, transportation facilities, and geographic features;

(ii) Commuting patterns; and

(iii) Similarities in overall population, employment, and the kinds and sizes of private industrial establishments.

Montrose County is currently defined to the Southern Colorado area of application. Based on our analysis of the regulatory criteria for defining appropriated fund FWS wage areas, we find that Montrose County would be more appropriately defined as part of the Northeastern Arizona area of application. When measuring to cities, the distance criterion favors the Northeastern Arizona wage area. When measuring to host installations, the distance criterion favors the Southern Colorado wage area. All other criteria are indeterminate. Although a standard review of regulatory criteria shows that most factors are indeterminate, distance to the closest cities does favor the Northeastern Arizona wage area. Based on this analysis, we recommend that Montrose County be redefined to the Northeastern Arizona wage area.

Gunnison County is currently defined to the Southern Colorado area of application. Our analysis of the regulatory criteria indicates that Gunnison County is appropriately defined as part of the Southern Colorado area of application. The distance criterion favors the Southern Colorado wage area. All other criteria are indeterminate. Based on the mixed nature of our regulatory analysis findings, there is no clear indication that Gunnison County should be placed in a different FWS wage area. However, the Department of the Interior informs us that the Black Canyon of the Gunnison National Park in Montrose County and the Curecanti National Recreation Area in Gunnison County are co-managed and that the majority of employees who service the Black Canyon of the Gunnison National Park have duty stations at the Curecanti National Recreation Area. The two parks are adjacent, with the Curecanti National Recreation Area sharing its western boundary with the Black Canyon of the Gunnison National Park. Because we are recommending that Montrose County be redefined to the Northeastern Arizona wage area, and because of the organizational relationship and geographic proximity of these two parks, we recommend that the portion of Gunnison County occupied by the Curecanti National Recreation Area be part of the Northeastern Arizona wage area. This change would ensure that FWS employees at the Black Canyon of the Gunnison National Park and the Curecanti National Recreation Area are paid from the same wage schedule. The remaining portion of Gunnison County would continue to be part of the Southern Colorado wage area. We believe the mixed nature of our regulatory analysis findings indicates that the remaining locations in Gunnison County remain appropriately defined to the Southern Colorado wage area, with distance being the deciding factor.

Dolores County is currently defined to the Southern Colorado area of application. Our analysis of the regulatory criteria indicates that Dolores County would be more appropriately defined as part of the Northeastern Arizona area of application. The distance criterion for Dolores County favors the Northeastern Arizona wage area more than the Southern Colorado wage area. The commuting patterns criterion slightly favors the Northeastern Arizona wage area. All other criteria are indeterminate. Based on this analysis, OPM proposes to redefine Dolores County to the Northeastern Arizona area of application.

Ouray, San Juan, and San Miguel Counties are currently defined to the Southern Colorado area of application. Our analysis of the regulatory criteria indicates that Ouray, San Juan, and San Miguel Counties would be more appropriately defined as part of the Northeastern Arizona area of application. The distance criterion favors the Northeastern Arizona wage area more than the Southern Colorado wage area. All other criteria are indeterminate. Since the distance criterion indicates that Ouray, San Juan, and San Miguel Counties are closer to the Northeastern Arizona survey area, we recommend that these three counties be redefined to the Northeastern Arizona wage area.

The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Northeastern Arizona and Southern Colorado wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Northeastern Arizona and Colorado wage areas to read as follows:

Appendix C to Subpart B of Part 532—Appropriated Fund Wage and Survey Areas

* * * * *

ARIZONA

Northeastern Arizona

Survey Area

Arizona:

Apache

Coconino

Navajo

New Mexico:

McKinley

San Juan

Area of Application. Survey Area plus:

Colorado:

Dolores

Gunnison (Only includes the Curecanti National Recreation Area portion)

La Plata

Montezuma

Montrose

Ouray

San Juan

San Miguel

Utah:

Kane

San Juan (Does not include the Canyonlands National Park portion)

* * * * *

COLORADO

* * * * *

Southwestern Colorado

Survey Area

Colorado:

El Paso

Pueblo

Teller

Area of Application. Survey Area plus:

Colorado:

Alamosa

Archuleta

Baca

Bent

Chaffee

Cheyenne

Conejos

Costilla

Crowley

Custer

Delta

Fremont

Gunnison (Does not include the Curecanti National Recreation Area portion)

Hinsdale

Huerfano

Kiowa

Kit Carson

Las Animas

Lincoln

Mineral

Otero

Pitkin

Prowers

Rio Grande

Saguache

* * * * *

[FR Doc. 2011-3769 Filed 2-18-11; 8:45 am]

BILLING CODE 6325-39-P